ENVIRONMENTAL PROTECTION AGENCY

[EPA-HQ-OW-2009-0921; FRL-9118-6]

Extension of Request for Scientific Views for Draft 2009 Update Aquatic Life Ambient Water Quality Criteria for Ammonia—Freshwater

AGENCY: Environmental Protection Agency (EPA).

ACTION: Notice; extension of the request for scientific views.

SUMMARY: On December 30, 2009 (74 FR 69086), EPA announced the availability of draft national recommended water quality criteria for ammonia for the protection of aquatic life entitled “Draft 2009 Update Aquatic Life Ambient Water Quality Criteria for Ammonia—Freshwater”. Written scientific views on the draft recommended criteria were to be submitted to EPA on or before March 1, 2010 (a 60-day request for scientific views). Since publication, the Agency has received several requests for additional time to submit comments. Therefore, EPA is extending the period of time in which the Agency will accept scientific views on the draft criteria document for an additional 30 days.

DATES: Scientific views must be received on or before April 1, 2010. Comments postmarked after this date may not be considered.

ADDRESSES: Submit your scientific views, identified by Docket ID No. EPA-HQ-OW-2009-0921, by one of the following methods:

• www.regulations.gov: Follow the on-line instructions for submitting comments.

• E-mail: OW-Docket@epa.gov.

• Mail: U.S. Environmental Protection Agency; EPA Docket Center (EPA/DC) Water Docket, MC 28221T; 1200 Pennsylvania Avenue, NW., Washington, DC 20460.

• Hand Delivery: EPA Docket Center, 1301 Constitution Ave., NW., EPA West, Room 3334, Washington, DC. Such deliveries are only accepted during the Docket's normal hours of operation, and special arrangements should be made for deliveries of boxed information.

Instructions: Direct your comments to Docket ID No. EPA-HQ-OW-2009-0921. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Office of Water Docket/EPA/DC, 1301 Constitution Ave., NW., EPA West, Room 3334, Washington, DC. This Docket Facility is open from 8:30 a.m. until 4:30 p.m., EST, Monday through Friday, excluding legal holidays. The telephone number for the Public Reading Room is (202) 566-1744, and the telephone number for the Office of Water Docket is (202) 566-2426.

FOR FURTHER INFORMATION CONTACT: Lisa Huff, Health and Ecological Criteria Division (4304T), U.S. EPA, 1200 Pennsylvania Ave., NW., Washington, DC 20460; (202) 566-0787; huff.lisa@epa.gov.

Dated: February 18, 2010.
Peter S. Silva,
Assistant Administrator for Water.

[FR Doc. 2010-3833 Filed 2-24-10; 8:45 am]

BILLING CODE 6560-50-P